DEPARTMENT OF TRANSPORTATION

Federal Aviation Administration

Notice of Availability of a Record of Decision (ROD) for the Proposed Bay Area Rapid Transit (BART) Connector Project at Oakland International Airport (OAK), Oakland, Alameda County, CA

AGENCY: Federal Aviation Administration (FAA), DOT.

ACTION: Notice of availability of Record of Decision.

SUMMARY: The FAA is issuing this notice to advise the public that it has issued a ROD for the proposed construction and operation of the proposed BART connector project at OAK. The ROD evaluated the proposed BART-OAK connector project at OAK, Oakland, Alameda County, California.

SUPPLEMENTARY INFORMATION: The FAA has completed and issued its ROD for a proposed BART-OAK connector project at OAK, Oakland, Alameda County, California. The proposed airport connector project would operate on an Automated Guideway Transit (AGT) system on an exclusive, approximate 3-mile long right-of-way. The AGT would provide a link between the existing BART Coliseum station and the airport terminal. Approximately one mile of the connector project would be built on airport property. The connector project would improve access to OAK by using a direct and convenient connection to the existing regional BART rail transit system. The ROD discusses alternatives considered by FAA in reaching its decision, summarizes the analysis used to evaluate the alternatives, and briefly summarizes the potential environmental consequences evaluated in the FAA's ROD. The ROD also identifies the FAA's environmentally preferred alternative, applicable and required mitigation. The FAA submitted a letter to the U.S. Environmental Protection Agency (EPA) on November 19, 2009, indicating the FAA was adopting the Federal Transit Administration (FTA) 2002 FEIS on this project and also re-circulated the EIS as a Final EIS for the FAA. EPA published the notice indicating FAA's adoption of the FTA FEIS in the Federal Register on November 27, 2009. The comment period closed on December 28, 2009 and comments were received from the EPA. The FAA provided responses to the EPA comments in Appendix A of the ROD.

Copies of the ROD are available for public examination during business hours at the following locations:

1. Federal Aviation Administration, San Francisco Airports District Office, 831 Mitten Road, Room 210, Burlingame, CA 94010-1303.

2. Federal Aviation Administration, Airports Division, Room 3012, 15000 Aviation Boulevard, Hawthorne, CA 90261.

3. Federal Aviation Administration, Office of the Associate Administrator for Airports, Planning and Environmental Division, Room 615, 800 Independence Avenue, SW., Washington, DC 20591.

4. Administrative Offices of the Port of Oakland, Port of Oakland, 530 Water Street, Oakland, CA 94607.

5. Alameda Public Library, Bay Farm Island Library, 3221 Macartney Road, Alameda, CA 94502.

6. Oakland Public Library, Brookfield Branch, 9255 Edes Avenue, Oakland, CA 94603.

7. Oakland Public Library, Main Library, 125 14th Street, Oakland, CA 94612.

8. Oakland Public Library, Martin Luther King Jr. Branch, 6833 International Blvd., Oakland, CA 94621.

9. San Leandro Public Library (Main), 300 Estudillo Avenue, San Leandro, CA 94577.

10. MTC-ABAG Library, Joseph P. Bort MetroCenter, 101 8th Street, Oakland, CA 94607.

FOR FURTHER INFORMATION CONTACT: Mr. Peter Ciesla, Regional Environmental Protection Specialist, Federal Aviation Administration, Western-Pacific Region, Airports Division, 15000 Aviation Boulevard, Hawthorne, California 90261. Telephone: (310) 725-3612.

Issued in Hawthorne, California on January 12, 2010.
Mia Paredes Ratcliff,
Acting Manager, Airports Division, Western-Pacific Region, AWP-600.

[FR Doc. 2010-1286 Filed 1-22-10; 8:45 am]

BILLING CODE 4910-13-P